DEPARTMENT OF THE INTERIOR

Fish and Wildlife Service

[FWS-R7-MB-2019-N043; FXMB12610700000-190-FF07M01000; OMB Control Number 1018-0124]

Agency Information Collection Activities; Submission to the Office of Management and Budget for Review and Approval; Alaska Subsistence Bird Harvest Survey

AGENCY: Fish and Wildlife Service, Interior.

ACTION: Notice of information collection; request for comment.

SUMMARY: In accordance with the Paperwork Reduction Act of 1995, we, the U.S. Fish and Wildlife Service (Service), are proposing to renew an information collection with revisions.

DATES: Interested persons are invited to submit comments on or before July 15, 2019.

ADDRESSES: Send written comments on this information collection request (ICR) to the Office of Management and Budget's Desk Officer for the Department of the Interior by email at OIRA_Submission@omb.eop.gov; or via facsimile to (202) 395-5806. Please provide a copy of your comments to the Service Information Collection Clearance Officer, U.S. Fish and Wildlife Service, MS: AMAD-ARM-PPM, 5275 Leesburg Pike, Falls Church, VA 22041-3803 (mail); or by email to Info_Coll@fws.gov. Please reference OMB Control Number 1018-0124 in the subject line of your comments.

FOR FURTHER INFORMATION CONTACT: To request additional information about this ICR, contact Madonna L. Baucum, Service Information Collection Clearance Officer, by email at Info_Coll@fws.gov, or by telephone at (703) 358-2503. You may also view the ICR at http://www.reginfo.gov/public/do/PRAMain.

SUPPLEMENTARY INFORMATION: In accordance with the Paperwork Reduction Act of 1995, we provide the general public and other Federal agencies with an opportunity to comment on new, proposed, revised, and continuing collections of information. This helps us assess the impact of our information collection requirements and minimize the public's reporting burden. It also helps the public understand our information collection requirements and provide the requested data in the desired format.

On February 8, 2019, we published a Federal Register notice soliciting comments on this collection of information for 60 days, ending on April 9, 2019 (84 FR 2902). We received no comments in response to the Federal Register notice.

We are again soliciting comments on the proposed ICR that is described below. We are especially interested in public comment addressing the following issues: (1) Is the collection necessary to the proper functions of the Service; (2) will this information be processed and used in a timely manner; (3) is the estimate of burden accurate; (4) how might the Service enhance the quality, utility, and clarity of the information to be collected; and (5) how might the Service minimize the burden of this collection on the respondents, including through the use of information technology.

Comments that you submit in response to this notice are a matter of public record. Before including your address, phone number, email address, or other personal identifying information in your comment, you should be aware that your entire comment—including your personal identifying information—may be publicly available at any time. While you can ask us in your comment to withhold your personal identifying information from public review, we cannot guarantee that we will be able to do so.

Abstract: The Migratory Bird Treaty Act of 1918 (16 U.S.C. 703-712) and the Fish and Wildlife Act of 1956 (16 U.S.C. 742d) designate the Department of the Interior as the key agency responsible for managing migratory bird populations that frequent the United States and for setting harvest regulations that allow for the conservation of those populations. These responsibilities include gathering data on various aspects of migratory bird harvest. We use harvest data to review regulation proposals and to issue harvest regulations.

The Migratory Bird Treaty Act Protocol Amendment (1995) (Amendment) provides for the customary and traditional use of migratory birds and their eggs for subsistence use by indigenous inhabitants of Alaska. The Amendment states that its intent is not to cause significant increases in the take of species of migratory birds relative to their continental population sizes. A submittal letter from the Department of State to the White House (May 20, 1996) accompanied the Amendment and specified the need for harvest monitoring. The submittal letter stated that the Service, the Alaska Department of Fish and Game (ADF&G), and Alaska Native organizations would collect harvest information cooperatively within the subsistence eligible areas. Harvest data help to ensure that customary and traditional subsistence uses of migratory birds and their eggs by indigenous inhabitants of Alaska do not significantly increase the take of species of migratory birds relative to their continental population sizes.

We monitored subsistence harvest of migratory birds using household surveys in the Yukon-Kuskokwim Delta region in 1985-2002 and in the Bristol Bay region in 1995-2002. Since 2004, the Alaska Migratory Bird Co-Management Council—Harvest Assessment Program (AMBCC-HAP) conducts regular surveys across Alaska to document the subsistence harvest of birds and their eggs. The statewide harvest assessment program helps to describe geographical and seasonal harvest patterns, and to track trends in harvest levels. The program relies on collaboration among the Service, the ADF&G, and diverse Alaska Native organizations.

We collect harvest data for about 60 bird species/categories and their eggs (ducks, geese, swans, cranes, seabirds, shorebirds, grebes and loons, and grouse and ptarmigan) in the subsistence eligible areas of Alaska. The survey covers spring, summer, and fall harvest in most regions.

In collaboration with Alaska Native organizations, we hire local resident surveyors to collect the harvest data. The surveyors list all households in the communities, randomly select households to be surveyed, and interview households that have agreed to participate. To ensure anonymity of harvest information, we identify each household by a numeric code. Since the beginning of the survey in 2004, twice we have re-evaluated and revised survey methods to streamline procedures and minimize respondent burden. We use the following forms for household participation:

• FWS Form 3-2380 (Tracking Sheet and Household Consent). The surveyor visits each household selected to participate in the survey to obtain household consent to participate. The surveyor uses this form to record household consent.

• FWS Forms 3-2381-1, 3-2381-2, 3-2381-3, 3-2381-4, and 3-2381-5 (Harvest Report). The Harvest Report has drawings of bird species most commonly available for harvest in different regions of Alaska, with fields for recording numbers of birds and eggs taken. The forms have up to four sheets, one for each surveyed season. The Western and Interior forms (3-2381-1 and 3-2381-3) have three sheets (spring, summer, and fall). We now use the Southern Coastal form 3-2381-2 only in the Bristol Bay region, and thus we renamed the form the Bristol Bay form. The North Slope form (3-2381-4) has two sheets (spring and summer). The new Cordova form (3-2381-5) has only one sheet (spring). Each seasonal sheet has black and white drawings of bird species, next to which are fields to record the number of birds and eggs harvested. Because bird species available for harvest vary in different regions of Alaska, there are five versions of the harvest report form, each with a different set of species. This helps to prevent users from erroneously recording bird species as harvested in areas where they do not usually occur.

Following the most recent re-evaluation of survey methods, the sampling design was revised to include only 5 of 12 management regions as an index to the statewide harvest, these 5 regions representing about 90 percent of the statewide subsistence bird harvest. We modified the survey to make the effort compatible with available funding. We also adjusted the number of communities and households to be surveyed each year based on statistical methods to maximize accuracy of harvest estimates given the survey funding. We also reduced the number of household visits from seasonal (three times per year) to annual (once a year). These modifications much reduced the estimated survey burden.

To fulfill priority information needs, we added the following question to the survey: “In the last 12 months, how many permanent members of this household tried to harvest: Birds (__) and eggs (__).” A similar question is often included in harvest surveys conducted in Alaska for resources such as fish, marine mammals, and terrestrial mammals. We need such information to estimate and document participation in harvesting activities and to answer a basic and recurrent question in harvest management: “How many people use this resource.” Adding this simple question does not change the average time needed to complete the survey.

Title of Collection: Alaska Migratory Bird Subsistence Harvest Household Survey.

OMB Control Number: 1018-0124.

Form Number: FWS Forms 3-2380, 3-2381-1, 3-2381-2, 3-2381-3, 3-2381-4, and 3-2381-5.

Type of Review: Revision of a currently approved collection.

Respondents/Affected Public: Households within subsistence eligible areas of Alaska.

Respondent's Obligation: Required to Obtain or Retain a Benefit.

Frequency of Collection: Annually.

Total Estimated Annual Nonhour Burden Cost: None.

Activity/respondents | Average number of annual respondents | Average number of submissions each | Average number of annual responses | Completion time per response (minutes) | Total annual burden hours*
Tracking Sheet and Household Consent (FWS Form 3-2380):
Individual Households | 723 | 1 | 723 | 5 | 60
Migratory Bird Subsistence Harvest Household Survey (FWS Forms 3-2381-1, 3-2381-2, 3-2381-3, 3-2381-4, 3-2381-5)
Individual Households | 645 | 3 | 1,935 | 5 | 161
Totals | 1,368 |  | 2,658 |  | 221
* Rounded.

An agency may not conduct or sponsor and a person is not required to respond to a collection of information unless it displays a currently valid OMB control number.

The authority for this action is the Paperwork Reduction Act of 1995 (44 U.S.C. 3501 et seq.).

Dated: June 9, 2019.
Madonna Baucum,
Information Collection Clearance Officer, U.S. Fish and Wildlife Service.

[FR Doc. 2019-12460 Filed 6-12-19; 8:45 am]

BILLING CODE 4333-15-P